DEPARTMENT OF DEFENSE

Department of the Air Force

HQ USAF Scientific Advisory Board

AGENCY: Department of the Air Force, DoD.

ACTION: Notice of meeting.

SUMMARY: Pursuant to Public Law 92-463, notice is hereby given of the forthcoming meeting of the Air Force Scientific Advisory Board and the Secretary of the Air Force. The purpose of the meeting is to allow the SAB leadership to prepare for and brief the Secretary on the outcome of the 2003 studies. Because classified and contractor-proprietary information will be discussed, this meeting will be closed to the public.

DATES: June 15, 2003.

ADDRESSES: The Arnold and Mabel Beckman Center, 100 Academy, Irvine, CA 92612-3002.

FOR FURTHER INFORMATION CONTACT: Lt Col John Pernot, Air Force Scientific Advisory Board Secretariat, 1180 Air Force Pentagon, Rm 5D982, Washington DC 20330-1180, (703) 697-4811.

Pamela D. Fitzgerald,
Air Force Federal Register Liaison Officer.

[FR Doc. 03-13665 Filed 5-30-03; 8:45 am]

BILLING CODE 5001-05-P